DEPARTMENT OF COMMERCE

National Oceanic and Atmospheric Administration

[RTID 0648-XB646]

Magnuson-Stevens Act Provisions; Fisheries of the Northeastern United States; Northeast Multispecies Fishery; Approved Monitoring Service Providers

AGENCY: National Marine Fisheries Service (NMFS), National Oceanic and Atmospheric Administration (NOAA), Commerce.

ACTION: Notification of approved monitoring service providers.

SUMMARY: NMFS has approved two additional companies to provide Northeast multispecies sector electronic monitoring services in fishing year 2022. Regulations implementing the Northeast Multispecies Fishery Management Plan require at-sea and electronic monitoring companies to be approved by NMFS to provide monitoring services to sectors. This action will allow sectors to contract for electronic monitoring services with any of the approved service providers for fishing year 2022.

ADDRESSES: The list of NMFS-approved sector monitoring service providers is available at: https://www.fisheries.noaa.gov/resource/data/observer-providers-northeast-and-mid-atlantic-programs.

FOR FURTHER INFORMATION CONTACT: Samantha Tolken, Fishery Management Specialist, (978) 675-2176, email Samantha.Tolken@noaa.gov.

SUPPLEMENTARY INFORMATION: The Northeast Multispecies Fishery Management Plan includes a requirement for industry-funded monitoring of catch by sector vessels. Sectors must contract with independent third-party service providers who provide at-sea and/or electronic monitoring services to their vessels. In order to provide at-sea or electronic monitoring services to sectors, monitoring companies must be approved by NMFS. The regulations at 50 CFR 648.87(b)(4) describe the criteria for approval of at-sea and electronic monitoring service provider applications. We approve service providers based on: (1) Completeness and sufficiency of applications; and (2) determination of the applicant's ability to meet the performance requirements of a sector monitoring service provider. Once approved, service providers must meet specified performance requirements outlined in § 648.87(b)(4), including required coverage levels, in order to maintain eligibility. We must notify service providers, in writing, if NMFS withdraws approval for any reason.

Approved Monitoring Service Providers

NMFS previously approved seven companies to provide monitoring services to the Northeast multispecies sectors in fishing years 2021 and 2022. Four of the seven approved companies provide both at-sea and electronic monitoring services: A.I.S., Inc.; East West Technical Services, LLC; Fathom Research, LLC; and Saltwater, Inc. The other three approved companies provide electronic monitoring services: Flywire Cameras; New England Marine Monitoring; and Teem Fish. On September 18, 2021, NMFS announced an additional opportunity for monitoring companies to apply for approval to provide at-sea monitoring and/or electronic monitoring services in fishing year 2022.

NMFS approved two additional companies to provide electronic monitoring services to the Northeast multispecies sectors in fishing year 2022: Archipelago Marine Research, Ltd.; and Satlink US, LLC. Table 1 includes the revised list of approved monitoring providers for fishing year 2022.

We approved the additional two companies to provide electronic monitoring services in fishing year 2022 because they have met the application requirements and documented their ability to comply with service provider standards. We will closely monitor the performance of approved providers, and we will withdraw approval during the current approval term if we determine performance standards are not being met.

Table 1—Approved Providers for Fishing Year 2022
Provider | Services | Address | Phone | Fax | Website
A.I.S., Inc | ASM/EM | 540 Hawthorn St., Dartmouth, MA 02747 | 508-990-9054 | 508-990-9055 | https://aisobservers.com/.
Archipelago Marine Research, Ltd | EM | 525 Head St., Victoria, BC V9A 5S1, Canada | 250-383-4535 | 250-383-0103 | https://www.archipelago.ca/.
East West Technical Services, LLC | ASM/EM | 91 Point Judith Rd., Suite 26, Unit 347, Narragansett, RI 02882 | 860-910-4957 | 860-223-6005 | https://www.ewts.com/.
Fathom Resources, LLC | ASM/EM | 855 Aquidneck Ave., Unit 9, Middletown, RI 02842 | 508-990-0997 | 508-991-7372 | https://fathomresources.com/.
Flywire Cameras | EM | P.O. BOX 55048, Lexington, KY 40511 | 888-315-7796 | 502-861-6568 | https://www.flywirecameras.com/.
New England Marine Monitoring | EM | 350 Commercial St., Portland, ME 04101 | 508-269-8138 |  | https://www.nemarinemonitoring .com/.
Saltwater, Inc | ASM/EM | 733 N St., Anchorage, AK 99501 | 907-276-3241 | 907-258-5999 | https://www.saltwaterinc.com/.
Satlink US, LLC | EM | 16423 Sawgrass Drive, Rehoboth Beach, DE 19971 | 703-447-5287 |  | https://www.satlink.es/en/.
Teem Fish | EM | 90—425 Carrall St., Vancouver, BC V6B 6E3, Canada | 778-884-2598 |  | https://teem.fish/.
ASM/EM = At-sea and electronic monitoring; EM = Electronic monitoring only.

(Authority: 16 U.S.C. 1801 et seq.)

Dated: January 13, 2022.
Ngagne Jafnar Gueye,
Acting Director, Office of Sustainable Fisheries, National Marine Fisheries Service.

[FR Doc. 2022-00977 Filed 1-19-22; 8:45 am]

BILLING CODE 3510-22-P